DEPARTMENT OF AGRICULTURE

Agricultural Marketing Service

[Doc. No. AMS-FV-10-0018; FV-10-328]

Domestic Origin Verification System Questionnaire and Regulations Governing Inspection and Certification of Processed Fruits and Vegetables and Related Products

AGENCY: Agricultural Marketing Service, USDA.

ACTION: Notice and request for comments.

SUMMARY: In accordance with the Paperwork Reduction Act of 1995 (44 U.S.C. Chapter 35), this notice announces the intention of the Agricultural Marketing Service (AMS) to request an extension and revision of a currently approved information collection that will combine a number of forms issued under inspection and grading services under the Agricultural Marketing Act of 1946 and section 8e of the Agricultural Marketing Agreement Act of 1937. AMS is combining all burden hours with this submission.

DATES: Comments may be submitted on or before September 7, 2010.

Additional Information or Comments: Interested persons are invited to submit comments. Comments must be sent to Chere L. Shorter, Processed Products Branch, Fruit and Vegetable Programs, Agricultural Marketing Service, U.S. Department of Agriculture, STOP 0247, 1400 Independence Avenue, SW., Washington, DC 20250-0247; fax (202) 690-1527; or can be submitted to http://www.regulations.gov. Comments should make reference to the date and page number of this issue of the Federal Register and will be made available for public inspection at the above office during regular business hours. Please be advised that all comments submitted in response to this notice will be included in the record and will be made available to the public on the Internet via http://www.regulations.gov. Also, the identity of the individuals or entities submitting the comments will be made public.

SUPPLEMENTARY INFORMATION: Title: “Domestic Origin Verification System Questionnaire and Regulations Governing Inspection and Certification of Processed Fruits and Vegetables and Related Products-7 CFR Part 52.”

OMB Number: 0581-0234.

Expiration Date of Approval: Three years from date of approval.

Type of Request: Request for extension and revision of currently approved information collections to be merged into one collection, the addition of two new forms, and revision of one form.

Abstract: Merger of two currently approved information collections.

The Agricultural Marketing Act of 1946 (7 U.S.C. 1621-1627) directs and authorizes the Department to develop standards of quality, grades, grading programs, and other services to facilitate trading of agricultural products and assure consumers of quality products which are graded and identified under USDA programs. Section 203(h) of the Act specifically directs and authorizes the Secretary of Agriculture to inspect, certify, and identify the grade, class, quality, quantity, and condition of agricultural products under such rules and regulations as the Secretary may prescribe, including assessment and collection of fees for the cost of the service.

The grading and certification of processed fruit and vegetable services under 7 CFR part 52 contains provisions for the collection of fees from users of the Processed Product Branch services that equal the cost of providing the requested services to the closest extent possible. In order for the Agency to satisfy those requests for service, the Agency must request certain information from those who apply for service. An application for service is a request for AMS to perform such services and requests such information as the applicant name, address, and product to be inspected. AMS also provides other types of voluntary services under the same regulations, e.g., contract and specification acceptance services, facility assessment services, certifications of quantity and quality, import product inspections, and export certification.

The “Domestic Origin Verification” (DOV) program's application for service is FV-DOV-1. This information collection is currently approved under OMB No. 0581-0234. The DOV program is an assessment program designed to provide validation of the applicant's domestic origin verification program prior to bidding on contracts to supply food products to the Department of Agriculture's (USDA's) Domestic Feeding programs, and/or may be conducted after a contract is awarded.

The DOV Program assists companies in meeting the domestic origin requirement for the USDA Purchase Program efficiently and eliminates redundancy in trace paperwork for USDA contracts.

Affected public may include any partnership, association, business trust, corporation, organized group, and state, county or municipal government, and any authorized agent that has a financial interest in the commodity involved and requests service. AMS intends to merge these two separate collections into one OMB control number.

Estimate of Burden: Public reporting burden for these two collections combined; the additional two new forms, and the revised form is estimated to average 0.33 hours per response. (6,192 total hours divided by 18,862 total annual responses).

Respondents: Applicants who are applying for grading and inspection services.

Estimated Number of Respondents: 1,142.

Estimated Number of Responses: 18,862.

Estimated Number of Responses per Respondent: 20.

Estimated Total Annual Burden on Respondents: 6,192.

The following are two new forms to be added to this information collection: Form FV-16, Notice for Hold for Re-Examination and FV-358, Request for Surety Bond.

Notice for Hold for Re-Examination (FV-16)

When foreign material or Grade Not Certified (GNC) product is found in an original sample submitted for inspection in excess of AMS requirements or FDA defect action levels, an inspector will notify an applicant and make arrangements with the applicant for re-examination, if desired. The top part of Form FV-16 is completed by the inspector.

Each “hold” lot must be conspicuously marked and distinguished from other lots as to code mark(s) and location when recording information on inspection documents, so that the lot may be easily found and identified. If the applicant disposes of GNC product immediately, Form FV-16 is not issued, and inspection records are marked accordingly.

Applicants have a number of options available, such as, segregation, reworking, destruction, or disposal for non-food use under AMS supervision. The option taken is reported to the inspector within two weeks from the date shown on the FV-16. The applicant indicates their desired option on the FV-16 form, and dates and signs the form.

Estimate of Burden: Public reporting burden for this collection of information is estimated to average 0.083 hours per response (1 total hour divided by 12 total annual responses).

Respondents: Applicants who use grading and inspection services.

Estimated Number of Respondents: 12.

Estimated Number of Responses: 12.

Estimated Number of Responses per Respondent: 1.

Estimated Total Annual Burden on Respondents: 1.

Request for Surety Bond (FV-358)

The information collected on the “Request for Surety Bond” form assures the inspection service that fees and charges for any inspection service are paid by the interested party making the application for such service in accordance with the applicable provisions of the regulation. The inspection service payments are guaranteed by either an advance of funds prior to rendering inspection service or a suitable surety bond. Applicants that enter into a contract or an agreement for inspection service must provide acceptable surety. Form FV-358 sets forth the agreement for surety and provides for the amount to be paid.

Estimate of Burden: Public reporting burden for this collection of information is estimated to average 0.20 hours per response (5.0 total hours divided by 25 total annual responses).

Respondents: Applicants who request grading and inspection services.

Estimated Number of Respondents: 25.

Estimated Number of Responses: 1.

Estimated Number of Responses per Respondent: 1.

Estimated Total Annual Burden on Respondents: 5.

Application for Inspection and Certification of Sampling (FV-356)

Form FV-356 is revised to include additional data required for inspection of products and services and combined under the same OMB control number. These include export certification, inspection of section 8e import products, and applicant submittal of unofficial samples.

The revised form includes additional data elements for section 8e import product inspection. The information required for this type of inspection pertains to imported canned ripe olives, raisins, and dates which are required to be inspected by AMS, subject to exemptions listed in the applicable Marketing Orders, Import Regulations (7 CFR parts 944.401, 999.300, and 999.1). Section 8e regulations are issued under section 608e-1 of the Agricultural Marketing Agreement Act of 1937, as amended (7 U.S.C. 608e-1). The revised request includes such information as: Importer of record; port of entry; name of vessel, container number, country of origin, customs entry number, bill of lading number, broker reference number, date of entry, harmonized tariff code, consignee number, and Food Canning Establishment (FCE) Number obtained from the FDA.

The revised application also includes information collected for the inspection of unofficially submitted samples of food products. This was previously Form FV-159 on the previous collection of OMB 581-0123. Form FV-159 will become obsolete as a result of the revision of this form.

Estimate of Burden: Public reporting burden for this collection of information is estimated to average 0.33 hours per response (6124 total hours divided by 18,560 total annual responses).

Respondents: Applicants requesting grading and inspection services.

Estimated Number of Respondents: 1,160.

Estimated Number of Responses: 18,560.

Estimated Number of Responses per Respondent: 16.

Estimated Total Annual Burden on Respondents: 6,192.

Forms FV-468, FV-356, and FV-358 will be made available in hard copy form. Applicants also may submit information by telephone, facsimile, or by e-mail. Forms FV-DOV-1, FV-468, FV-356, FV-16 and FV-358 are accessible at http://eforms.ams.usda.gov/#CustomersFV. Presently, form FV-DOV-1 may be accessed on the Internet at http://www.ams.usda.gov/AMSv1.0/DOV.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for Office of Management and Budget approval. All comments will become a matter of public record.

Dated: June 29, 2010.
Robert C. Keeney,
Acting Administrator, Agricultural Marketing Service.

[FR Doc. 2010-16329 Filed 7-2-10; 8:45 am]

BILLING CODE P